DEPARTMENT OF ENERGY

Federal Energy Regulatory Commission

Notice of Application Accepted for Filing and Soliciting Motions To Intervene and Protests

April 18, 2000.

Take notice that the following hydroelectric application has been filed with the Commission and is available for public inspection:

a. Type of Application: New Major License.

b. Project Nos.: 2576-022 and 2597-019.

c. Date filed: August 31, 1999.

d. Applicant: Connecticut Light and Power Company.

e. Names of Projects: Falls Village Project and Housatonic Project.

f. Location: Falls Village, Bulls Bridge, Rocky River (Pumped Storage), Shepaug, and Stevenson developments are located on the Housatonic River, 76.2 miles, 52.9 miles, 44.1 miles, 30.0 miles and 19.3 miles, respectively, from its mouth at Milford Point, Massachusetts. The project is in the western portion of Connecticut in the counties of Fairfield, New Haven and Litchfield. Approximately 74 acres of federal land are within project boundaries.

g. Filed Pursuant to: Federal Power Act, 16 U.S.C. 791(a)-825(r).

h. Applicant Contact: William J. Nadeau, Vice President, The Connecticut Light and Power Company, Post Office Box 270, Hartford, Connecticut 0641-0270, (860) 665-5315.

i. FERC Contact: James T. Griffin, by email at james.griffin@ferc.fed.us or by telephone at (202) 219-2799.

j. Deadline for filing motions to intervene and protest: 60 days from the issuance of this notice.

All documents (original and eight copies) should be filed with David P. Boergers, Secretary, Federal Energy Regulatory Commission, 888 First Street, NE, Washington, DC 20426.

The Commission's Rules of Practice and Procedure require all intervenors filing documents with the Commission to serve a copy of that document on each person whose name appears on the official service list for the project. Further, if an intervenor files comments or documents with the Commission relating to the merits of an issue that may affect the responsibilities of a particular resource agency, they must also serve a copy of the document on that resource agency.

k. Status of environmental analysis: This application is not ready for environmental analysis at this time.

l. Description of the project:

1. The Falls Village Development consists of the following existing facilities: (1) A 300-foot-long, 14-foot-high concrete gravity dam with two spillways having a combined overflow length of approximately 280 feet, and a crest at elevation 631.5 feet National Geodetic Vertical Datum (NGVD); (2) an impoundment 3.8 miles long containing 1,135 acre-feet when at elevation 633.2 feet NGVD; (3) a dam-integral powerhouse with a total installed capacity of 9.0 megawatts (MW) producing approximately 39,894 megawatt hours (MwH) annually; and (4) a switch yard connected to the project via a 69 kilovolt (kV) interconnected transmission line.

2. The Bulls Bridge Development consists of the following existing facilities: (1) A 203-foot-long, 24-foot-high stone and concrete gravity dam with a dam crest of 354 feet NGVD; (2) a two-mile-long power canal; (3) a 156-foot-long, 17-foot-high rock fill gravity weir dam; (4) a 2.25 mile-long reservoir with an 1,800 acre-feet storage capacity, a surface area, which, at a normal elevation of 354 feet NGVD, occupies approximately 120 acres; (5) a powerhouse with a capacity of 7.2 MW, producing approximately 41,000 Mwh annually; and (6) a 69kV line connecting the development to the Rocky River development.

3. The Rocky River Pumped Storage Development consists of the following existing facilities: (1) A 952-foot-long earth-filled core well dam, a 2,500-foot-long earthen canal dike that forms the north bank of the power canal to the intake structure, six dikes, a dam crest elevation averaging 440.1 feet NGVD, and an intake canal 3,190 feet in length; (2) a 7-mile-long, Candlewood Lake reservoir with a 5,610 acres impoundment at 428.1 feet NGVD; (3) a powerhouse with a rated 31,000 KW capacity averaging 14,238,100 kWh per year; and (4) a development connection to the applicant's transmission system via the Rocky River-Carmel Hill 1813 line, the Rocky River-Bull Bridge 1555 line and the Rocky River-West Brookfield 1618 line.

4. The Shepaug Development consists of the following existing facilities: (1) A 1,412-foot, bedrock-anchored, concrete gravity dam having a crest elevation of 205.3 feet NGVD; (2) an impoundment, at maximum operational elevation level of 198.3 feet NGVD, occupying 1870 acres; (3) a powerhouse with a rated capacity of 37,200 kW with a 1997 production of 118,880 Mwh; and (4) a development connection to the applicant's transmission system via the shepaug-Bates 1622 line and Shepaug-Stony Hill-West Brookfield 1887 line.

5. The Stevenson Development consists of the following existing facilities: (1) A 1,250-foot, bedrock-anchored, concrete gravity dam with a rest elevation of 98.3 feet NGVD, 696 feet of spillway and an integral powerhouse; (2) an impoundment occupying a surface area of 1,063 acres at 101.3 feet NGVD, which contains a storage volume of 2,650 acre-feet; (3) a powerhouse with a rated capacity of 30,500 kW with a 1997 production of 92,448 Mwh; and (4) a development connection to the applicant's transmission system via several 115 kV transmission lines.

m. Locations of the application: A copy of the application is available for inspection and reproduction at the commission's Public Reference Room, located at 888 First Street, NE., Room 2A, Washington, DC 20426, or by calling (202) 208-1371. This filing may be viewed on the web at www.ferc.fed.us/online/rims.htm. Call (202) 208-2222 for assistance. A copy is also available for inspection and reproduction at the address in item h above.

Protests of Motions to Intervene—Anyone may submit a protest or a motion to intervene in accordance with the requirements of Rules of Practice and Procedure, 18 CFR 385.210, 385.211, and 385.214. In determining the appropriate action to take, the Commission will consider all protests filed, but only those who file a motion to intervene in accordance with the Commission's Rules may become a party to the proceeding. Any protests or motions to intervene must be received on or before the specified deadline date for the particular application.

Filing and Service of Responsive Documents—The application is not ready for environmental analysis at this time; therefore, the Commission is not now requesting comments, recommendations, terms and conditions, or prescriptions.

When the application is ready for environmental analysis, the Commission will issue a public notice requesting comments, recommendations, terms and conditions, or prescriptions.

All filings must (1) bear in all capital letters the title “PROTEST” or “MOTION TO INTERVENE;” (2) set forth in the heading the name of the applicant and the project number of the application to which the filing responds; (3) furnish the name, address, and telephone number of the person protesting or intervening; and (4) otherwise comply with the requirements of 18 CFR 385.2001 through 385.2005. Agencies may obtain copies of the application directly from the applicant. Any of these documents must be filed by providing the original and the number of copies required by the Commission's regulations to: The Secretary, Federal Energy Regulatory Commission, 888 First Street, NE., Washington, DC 20426. An additional copy must be sent to Director, Division of Environmental and Engineering Review, Office of Energy Projects, Federal Energy Regulatory Commission, at the above address. A copy of any protest or motion to intervene must be served upon each representative of the applicant specified in the particular application.

David P. Boergers,
Secretary.

[FR Doc. 00-10100 Filed 4-21-00; 8:45 am]

BILLING CODE 6717-01-M